FEDERAL COMMUNICATIONS COMMISSION

47 CFR Part 73

[DA 09-42; MB Docket No. 08-43; RM-11420]

Radio Broadcasting Services; Basin, Wyoming

AGENCY: Federal Communications Commission.

ACTION: Final rule.

SUMMARY: At the request of White Park Broadcasting, Inc., this document allots Channel 300C3 at Basin, Wyoming, as the community's second local aural transmission service. Channel 300C3 can be allotted at Basin, Wyoming without a site restriction at coordinates 44-22-48 NL, and 108-02-18 WL.

DATES: Effective March 2, 2009.

ADDRESSES: Secretary, Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 08-43, adopted January 14, 2009, and released January 16, 2009. This matter was initiated by a Notice of Proposed Rule Making, 73 FR 20005 (April 14, 2008). The full text of this Commission decision is available for inspection and copying during normal business hours in the FCC's Reference Information Center at Portals II, CY-A257, 445 Twelfth Street, SW., Washington, DC 20554. This document may also be purchased from the Commission's copy contractor, Best Copy and Printing, Inc., Portals II, 445 12th Street, SW., Room CY-B402, Washington, DC 20554, telephone 1-800-378-3160 or http://www.BCPIWEB.com.

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Wyoming is amended by adding Basin, Channel 300C3.

Federal Communications Commission.
John A. Karousos,
Assistant Chief, Audio Division Media Bureau.

[FR Doc. E9-2378 Filed 2-4-09; 8:45 am]

BILLING CODE 6712-01-P